DEPARTMENT OF TRANSPORTATION

Federal Aviation Administration

Twelfth Meeting: RTCA NextGen Advisory Committee (NAC)

AGENCY: Federal Aviation Administration (FAA), U.S. Department of Transportation (DOT).

ACTION: Twelfth Meeting Notice of RTCA NextGen Advisory Committee.

SUMMARY: The FAA is issuing this notice to advise the public of the twelfth meeting of the RTCA NextGen Advisory Committee.

DATES: The meeting will be held June 3, 2014 from 9:00 a.m.-3:00 p.m.

ADDRESSES: The meeting will be held at RTCA Headquarters, 1150 18th Street NW., Suite 910, Washington, DC, 20036.

FOR FURTHER INFORMATION CONTACT: The RTCA Secretariat, 1150 18th Street NW., Suite 910, Washington, DC, 20036, or by telephone at (202) 833-9339, fax at (202) 833-9434, or Web site at http://www.rtca.org. Andy Cebula, NAC Secretary can also be contacted at acebula@rtca.org or 202-330-0652.

SUPPLEMENTARY INFORMATION: Pursuant to section 10(a)(2) of the Federal Advisory Committee Act (Pub. L. 92-463, 5 U.S.C., App.), notice is hereby given for a meeting of Special Committee 224. The agenda will include the following:

June 3

• Opening of Meeting/Introduction of NAC Members—Chairman Bill Ayer

• Official Statement of Designated Federal Official—The Honorable Mike Whitaker, FAA Deputy Administrator

• Review and Approval of February 2014 Meeting Summary

• Chairman's Report—Chairman Ayer

• FAA Report—Mr. Whitaker

• NextGen Integration Working Group—Interim Report and approval of initial recommendations from the work of the four Teams addressing the NextGen capabilities derived from the NAC Prioritization recommendation.

• PBN Blueprint Task Group—Interim Report on the Blueprint for Performance-Based Navigation Procedures Implementation Tasking from the FAA on lessons learned from prior PBN implementations.

• PBN Implementation Experiences—Briefings from FAA and industry representatives on specific recent implementations of PBN.

• Recap of Meeting and Anticipated Issues for NAC consideration and action at the next meeting, October TBD 2014, Washington, DC.

• Other business

• Adjourn

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on May 5, 2014.
Paige Williams,
Management Analyst, NextGen, Business Operations Group, Federal Aviation Administration.

[FR Doc. 2014-10888 Filed 5-9-14; 8:45 am]

BILLING CODE 4910-13-P